DEPARTMENT OF TRANSPORTATION

Federal Aviation Administration

14 CFR Part 71

[Airspace Docket No. 00-ASO-35]

Amendment of Class D and Class E4 Airspace; Gainesville, FL

AGENCY: Federal Aviation Administration (FAA), DOT.

ACTION: Final rule; correction.

SUMMARY: This action corrects an error in the geographic position coordinates of a final rule that was published in the Federal Register on November 13, 2000, (65 FR 67624), Airspace Docket No. 00-ASO-35. The final rule amended Class D and Class E4 airspace at Gainesville, FL.

EFFECTIVE DATE: January 5, 2001.

FOR FURTHER INFORMATION CONTACT: Wade T. Carpenter, Jr., Manager, Airspace Branch, Air Traffic Division, Federal Aviation Administration, P.O. Box 20636, Atlanta, Georgia 30320; telephone (404) 305-5586.

SUPPLEMENTARY INFORMATION:

History

Federal Register Document 00-28989, Airspace Docket No. 00-ASO-35, published on November 13, 2000, (65 FR 67624), amended Class D and Class E4 airspace at Gainesville, FL. The airspace description inadvertently contained incorrect geographic position coordinates for the GATORS VORTAC. This action corrects the error.

Correction to Final Rule

Accordingly, pursuant to the authority delegated to me, the airspace description for the Class E4 airspace area Gainesville, FL, incorporated by reference at Sec. 71-1 and published in the Federal Register on November 13, 2000 (65 FR 67624), is corrected as follows:

§ 71.71 [Corrected]

* * * * *

ASO FL E4 Gainesville, FL [Corrected]

On page 67625, column 2, line 2 of the GATORS VORTAC geographic position description, correct the geographic position coordinates by substituting “(lat. 29°41′11″N, long. 82°16′28″W)” for “(lat 29°34′20″N, long. 82°21′45″W)”.

* * * * *

Dated: Issued in College Park, Georgia, on December 7, 2000.
Wade T. Carpenter,
Acting Manager, Air Traffic Division, Southern Region.

[FR Doc. 01-348 Filed 1-4-01; 8:45 am]

BILLING CODE 4910-13-M